DEPARTMENT OF DEFENSE

Department of the Army; Corps of Engineers

Intent To Prepare a Draft Environmental Impact Statement (DEIS) for the Haile Gold Mine in Lancaster County, SC

AGENCY: Department of the Army, U.S. Army Corps of Engineers.

ACTION: Notice of Intent.

SUMMARY: The U.S. Army Corps of Engineers, Charleston District intends to prepare a Draft Environmental Impact Statement (DEIS) to assess the potential social, economic and environmental effects of the proposed construction and operation of a gold mine in order to extract and process gold from the Haile ore body in wetlands and streams associated with Haile Gold Mine Creek, by Haile Gold Mine, Inc. (Haile) in the vicinity of Kershaw, in Lancaster County, South Carolina. The DEIS will assess potential effects of a range of alternatives.

DATES: General Public Scoping Meeting: One Public Scoping meeting is planned for Thursday October 27, 2011 beginning at 5 p.m. EDT at the Andrew Jackson Recreation Center, 6354 N Matson St, Kershaw, SC 29067.

FOR FURTHER INFORMATION CONTACT: For further information and/or questions about the proposed project and DEIS, please contact Dr. Richard L. Darden, Project Manager, by telephone: 843-329-8043 or toll free 1-866-329-8187, or by mail:

CESAC-RE-P, 69-A Hagood Avenue, Charleston, SC 29403. For inquiries from the media, please contact the Corps, Charleston District Corporate Communications Officer (CCO), Ms. Glenn Jeffries by telephone: (843) 329-8123.

SUPPLEMENTARY INFORMATION: An application for a Department of the Army permit was submitted by Haile pursuant to Section 404 of the Clean Water Act (33 U.S.C. 1344) on January 12, 2011 and was advertized in a Joint Public Notice, P/N # SAC 1992-24211-4_Lancaster_County on January 28, 2011. The public notice is available on Charleston District's public Web site at: http://www.sac.usace.army.mil/?action=publicnotices.pn2011.

1. Description of Proposed Project. The project proposed by Haile is to reactivate the existing Haile Gold Mine near Kershaw, SC for the development of gold resources, to expand the area for open pit mining, and to construct associated facilities. The Haile Gold Mine Site encompasses approximately 4,231 acres. Mining will occur in phases involving eight open mining pits over a twelve-year period, with pit depths ranging from 110 to 840 feet deep. The proposed work includes the mechanized land clearing, grubbing, temporary stockpiling, filling, and excavation that will impact 161.81 acres of jurisdictional, freshwater wetlands and 38,775 linear feet of streams. Construction drawings provided by the applicant are included in the original joint public notice of January 28, 2011, and are available on Charleston District's public Web site at http://www.sac.usace.army.mil/?action=publicnotices.pn2011.

2. Alternatives. A range of alternatives to the proposed action will be identified, and those found to be reasonable alternatives will be fully evaluated in the DEIS, including: The no-action alternative, the applicant's proposed alternative, alternative mine locations and mine plans, alternative mining methods and processes, alternatives that may result in avoidance and minimization of impacts, and mitigation measures not in the proposed action. However, this list is not exclusive and additional alternatives may be considered for inclusion.

3. Scoping and Public Involvement Process. A scoping meeting will be conducted to gather information on the scope of the project and alternatives to be addressed in the DEIS. Additional public and agency involvement will be sought through the implementation of a public involvement plan and through an agency coordination team.

4. Significant Issues. Issues associated with the proposed project to be given detailed analysis in the DEIS are likely to include, but are not necessarily limited to, the potential impacts of the proposed Haile Gold Mine on surface and groundwater quality, aquatic habitat and biota, wetlands and stream habitats, federal and state listed species of concern, indirect and cumulative impacts, drinking water supplies, mitigation, emergency response and contingency plans, mine closure and rehabilitation, conservation, economics, aesthetics, general environmental concerns, historic properties, fish and wildlife values, flood hazards, land use, recreation, water supply and conservation, water quality, energy needs, safety, and the needs and welfare of the people.

5. Additional Review and Consultation. Additional review and consultation which will be incorporated into the preparation of this DEIS will include, but will not necessarily be limited to, Section 401 of Clean Water Act; Essential Fish Habitat (EFH) consultation requirements of the Magnuson-Stevens Fishery Conservation and Management Act; the National Environmental Policy Act; the Endangered Species Act; and the National Historic Preservation Act.

6. Availability of the Draft Environmental Impact Statement. The Draft Environmental Impact Statement (DEIS) is anticipated to be available late in 2012. A Public Hearing will be conducted following the release of the DEIS.

Edward P. Chamberlayne,
Commander, U.S. Army Corps of Engineers, Charleston District.

[FR Doc. 2011-25140 Filed 9-28-11; 8:45 am]

BILLING CODE 3720-58-P